GENERAL SERVICES ADMINISTRATION

[OMB Control No. 3090-00XX]; [Docket No. 2015-0001; Sequence No. 6]

Submission to OMB for Review; OMB Control No. 3090-00XX; Wireless Telecommunications Company Application

AGENCY: Public Buildings Service, General Services Administration (GSA).

ACTION: Notice of request for public comments regarding a new Office of Management and Budget (OMB) information clearance.

SUMMARY: Under the provisions of the Paperwork Reduction Act of 1995 (44 U.S.C. chapter 35), GSA will be submitting to OMB for review and approval a new information collection request concerning the Wireless Telecommunications Company Application. GSA will also be requesting from OMB approval to characterize this form as a common form, meaning that GSA will only request approval for its own use of the form, rather than aggregating the burden estimate across all Federal agencies that may use this form. A previous notice relating to the Wireless Telecommunications Company Application was published in the Federal Register on March 12, 2015, at 80 FR 13004. One respondent submitted 20 comments on this collection.

DATES: Submit comments on or before September 28, 2015.

ADDRESSES: Submit comments identified by Information Collection 3090-00XX regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for Information Collection 3090-00XX. Select the link “Comment Now” that corresponds with “Information Collection 3090-00xx; Wireless Telecommunications Company Application.” Follow the instructions provided on the screen. Please include your name, company name (if any) and “Information Collection 3090-00XX; Wireless Telecommunications Company Application” on your attached document.

• Mail: U.S. General Services Administration, Regulatory Secretariat Division (MVCB), 1800 F Street NW., Washington, DC 20405, ATTN: Ms. Flowers/IC 3090-00XX.

Instructions: Please submit comments only and cite Information Collection 3090-00XX; Wireless Telecommunications Company Application, in all correspondence related to this collection. All comments received will be posted without change to http://www.regulations.gov, including any personal and business confidential information provided. To confirm receipt of your comment(s), please check www.regulations.gov, approximately two to three days after submission to verify posting (except allow 30 days for posting of comments submitted by mail).

FOR FURTHER INFORMATION CONTACT: Ms. Mary Ann Hillier, National Outlease Program Manager, PBS, GSA, at telephone 202-208-6139, or via email to maryann.hillier@gsa.gov.

SUPPLEMENTARY INFORMATION:

A. Purpose

The purpose of this application is to streamline the business information collection process to accelerate the approval process between the Federal Government and a commercial wireless telecommunications company wishing to install a wireless antenna on a Federal asset for the expansion of the company's wireless network. Federal executive agencies with landholding authority will use this form.

B. Discussion and Analysis

One respondent submitted multiple comments on the request to approve the new information collection. The analysis of the public comments is summarized as follows:

Comment: The proposed application form requests site-specific, detailed information that may not be available to the applicant at the time of the application.

Response: The submission of site-specific, detailed, complete, and accurate drawings and specifications is not required at the time the application is submitted. However, if the application is approved, detailed drawings and specifications are required and critical to determine if an installation would be suitable, particularly for a rooftop antenna. The Government reserves the right to reject a request if the applicant does not provide detailed drawings and specifications of the proposed equipment, structures and installation prior to the completion of contract negotiations.

Comment: GSA should require each agency to provide a contact person for handling applications related to each property.

Response: The application requests the name of individuals who will serve as the respective points of contact for the applicant and the Government. Since the application is project/building specific (i.e., not a blanket application for multiple installations at multiple locations,) the desired results will be attained with use of the application. GSA already maintains an online map of all federally owned properties under GSA's jurisdiction, custody, and control with point-of-contact information specific to using space for private sector antenna installations and will encourage the other executive landholding agencies to do the same.

Comment: Online tracking mechanisms should be utilized.

Response: GSA agrees online tracking mechanisms are useful tools. GSA, in consultation with other executive landholding agencies, will work to develop an online tracking system.

Comment: RFI certification report requirement should be clarified.

Response: The RFI certification is listed as a potential requirement because it is not required for all projects; for instance, the RFI certification is of no benefit for land-sited towers, as these types of towers are secured against unauthorized access. The RFI certification is a long standing requirement for rooftop antenna installations so that the many individuals requiring access to building rooftops may do so safely and so that the new antenna microwave frequencies will not cause interference with existing rooftop antennas. This certification requirement is a business practice that GSA encourages other executive landholding agencies to adopt for their rooftop antenna installations. It is not the intention of this application to require a RFI certification for those secured Government campuses where access to the antenna installation is restricted.

Comment: “Federal, state and local statutory recording requirements” should be clarified or deleted.

Response: GSA currently requires vendors to comply with all Federal, state and local statutory requirements and will encourage other executive landholding agencies to adopt this practice. No change will be made in response to this comment.

Comment: Requirements for a security deposit should be eliminated at the application stage.

Response: The security deposit is not required until after the application is approved. GSA requires a security deposit for antenna installations to protect against damage and abandonment. While the majority of large carriers are responsible tenants, carrier bankruptcy is a possibility. The Government reserves the right to avoid the necessity of using appropriated funds to address damage or equipment abandonment.

Comment: Requirements for a performance bond should be eliminated.

Response: Requiring a performance bond is standard business practice. The purpose of the application is to pre-qualify the carrier. The applicant is not expected to furnish the performance bond at the time it submits the application. This provision is intended to notify applicants that a performance bond may be required prior to commencing installation of the equipment.

Comment: Certain information requested is too broad, the Federal Communications Commission (FCC) License does not apply to all, and clarification needed for Check List items 1 and 7.

Response: The information being collected is standard business information required to establish the financial viability of a business to determine whether to enter into negotiations. The information would only be collected by the Contracting Officer (CO) or the Contracting Officer's Representative (COR). The CO or the COR may not handle day-to-day site issues, but are reliable agency points of contact for the carrier throughout the life of the contract.

If the application is being used for a system that does not require an FCC license, the carrier can notify the agency and the agency can, in turn, confirm with the FCC that a license is not required for the proposed installation.

With regard to the Potential Document Check List, item No. 1 refers to the business license that most, if not all, states require for a commercial business to be conducted in their state. Item No. 7 refers to the contractual requirement that lessees must comply with all applicable Federal, state, local government, and municipal laws, statutes, ordinances, rules, regulations, codes, decrees, orders and other such requirements, including, without limitation, those laws regarding wages and hours, health, safety, building codes, emergencies, and security.

Comment: GSA should clarify the title of the proposed common form application.

Response: The posting to the Federal Register for the second request for comments will use the correct title for the application.

Comment: The application form should be used by all federal agencies.

Response: The current draft application for wireless antenna installations is being processed as a Common Form for use by all federal agencies. Once the Federal Register posting process is complete, the application will be submitted to OMB for approval. An application for right-of-way and easements, the SF299 “Application for Transportations and Utility Systems on Federal Land,” is already in existence, and its use is required for all federal agencies. The SF-299 was developed by the Departments of Agriculture, Interior, and Transportation.

Comment: Moratoria on accepting applications are prohibited.

Response: This comment speaks not to the application, but rather to shared policy and procedures to be developed by the executive landholding agencies acting in common in support of the application process. This comment will be taken into consideration; however, no change will be made to the application in response to this comment.

Comment: Timely responses to applications are mandatory.

Response: It is agreed that timely responses are important; however, the comment speaks not to the application, but rather to shared policy and procedures to be developed by the executive landholding agencies acting in common in support of the application process. No change will be made to the application in response to this comment.

Comment: Applications should be “deemed approved” upon passage of time.

Response: While timely approval is a shared goal, federal agencies must perform the due diligence required to confirm that implementation of a proposal is in the best interests of the Government and the taxpayer.

Comment: Applications should be presumed consistent with each agency's mission and property use.

Response: Given the different missions and property uses existent among the executive landholding agencies, it is not clear how making such a presumption is in the best interest of the Government and the taxpayer.

Comment: The application form should not implicate a Joint Spectrum Center review for commercial providers of unlicensed wireless services.

Response: The decision to use unlicensed wireless services is an internal policy decision to be developed in concert among the executive landholding agencies in support of the application process. No change will be made to the application in response to this comment.

Comment: Applicants may opt in to the rates, terms, and conditions of other providers located at the federal property.

Response: This comment speaks not to the application, but rather to shared policy and procedures to be developed by the executive landholding agencies acting in common in support of the application process. No change will be made to the application in response to this comment.

Comment: The “Notice of Competitive Procedures” should be posted to FedBizOps.gov upon receipt of an application.

Response: This comment speaks not to the application, but rather to shared policy and procedures to be developed by the executive landholding agencies acting in common in support of the application process. No change will be made to the application in response to this comment.

Comment: Application forms should be utilized to initiate amendments to existing installations and the applicable lease, easement, or right-of-way.

Response: This comment speaks not to the application, but rather to shared policy and procedures to be developed by the executive landholding agencies acting in common in support of the application process. No change will be made to the application in response to this comment.

Comment: Executive agencies may utilize easements or leases with 25-year terms for wireless siting requests.

Response: This comment speaks not to the application, but rather to shared policy and procedures to be developed by the executive landholding agencies acting in common in support of the application process. No change will be made to the application in response to this comment.

C. Annual Reporting Burden

Respondents: 20.

Responses per Respondent: 1.

Total Response Hours: 20.

Hours per Response: 1.

Total Burden Hours: 20.

D. Public Comments

Public comments are particularly invited on: Whether this collection of information is necessary and whether it will have practical utility; whether our estimate of the public burden of this collection of information is accurate and based on valid assumptions and methodology; ways to enhance the quality, utility and clarity of the information to be collected; and ways in which we can minimize the burden of the collection of information on those who are to respond through the use of appropriate technological collection techniques or other forms of information technology.

Obtaining Copies of Proposals: Requesters may obtain a copy of the information collection documents from the General Services Administration, Regulatory Secretariat Division (MVCB), 1800 F Street NW., Second Floor, Washington, DC 20405, telephone 202-501-4755. Please cite OMB Control No. 3090-00XX, Wireless Telecommunications Company Application, in all correspondence.

Dated: August 21, 2015.
David A. Shive,
Chief Information Officer.

[FR Doc. 2015-21249 Filed 8-27-15; 8:45 am]

BILLING CODE 6820-14-P